DEPARTMENT OF COMMERCE

National Oceanic and Atmospheric Administration

RIN 0648-XG97

Fisheries of the South Atlantic; South Atlantic Fishery Management Council (Council)—Meeting of the Shrimp Review Panel

AGENCY: National Marine Fisheries Service (NMFS), National Oceanic and Atmospheric Administration (NOAA), Commerce.

ACTION: Notice.

SUMMARY: The South Atlantic Fishery Management Council will hold a meeting of its Shrimp Review Panel via conference call.

DATES: The conference call will take place at 2 p.m. on April 24, 2008.

ADDRESSES: The meeting will be held via conference call. The public may call in to listen by calling toll free 866-256-9295.

FOR FURTHER INFORMATION CONTACT: Kim Iverson, Public Information Officer, South Atlantic Fishery Management Council, 4055 Faber Place Drive, Suite 201, North Charleston, S.C., 29405; phone 843/571-4366 or toll free 866/SAFMC-10; FAX 843/769-4520; email: kim.iverson@safmc.net.

SUPPLEMENTARY INFORMATION: The Council will convene a meeting of its Shrimp Review Panel via conference call to address the condition of the pink shrimp stock. Amendment 6 to the Fishery Management Plan for the Shrimp Fishery of the South Atlantic Region established a proxy for a minimum stock size threshold as a parent stock size capable of producing maximum sustainable yield the following year. The Panel will convene to review the current status of the pink shrimp stock and determine whether action by the Council is required at this time. The Panel will prepare a report with its recommendations for review by the Council's Scientific and Statistical Committee and the Shrimp Committee to determine if management action is needed.

Special Accommodations

These meetings are physically accessible to people with disabilities. Requests for auxiliary aids should be directed to the council office (see ADDRESSES) three days prior to the meetings.

Dated: April 2, 2008.
Tracey L. Thompson
Acting Director, Office of Sustainable Fisheries, National Marine Fisheries Service.

[FR Doc. E8-7265 Filed 4-7-08; 8:45 am]

BILLING CODE 3510-22-S